DEPARTMENT OF TRANSPORTATION

Federal Aviation Administration

14 CFR Part 71

[Docket No. 29334; Amendment No. 71-40]

Airspace Designations; Incorporation by Reference

AGENCY: Federal Aviation Administration (FAA), DOT.

ACTION: Final rule.

SUMMARY: This action amends Title 14 Code of Federal Regulations (14 CFR) part 71 relating to airspace designations to reflect the approval by the Director of the Federal Register of the incorporation by reference (IBR) of FAA Order 7400.9R, Airspace Designations and Reporting Points. This action also explains the procedures the FAA will use to amend the listings of Class A, B, C, D, and E airspace areas; air traffic service routes; and reporting points incorporated by reference.

DATES: Effective Date: These regulations are effective September 16, 2008 until October 31, 2008. The incorporation by reference of FAA Order 7400.9R is approved by the Director of the Federal Register as of September 16, 2008 until October 31, 2008.

FOR FURTHER INFORMATION CONTACT: Tameka Bentley, Airspace and Rules Group, Office of System Operations Airspace and AIM, Federal Aviation Administration, 800 Independence Avenue, SW., Washington, DC 20591; telephone: (202) 267-9239.

SUPPLEMENTARY INFORMATION:

History

FAA Order 7400.9R, Airspace Designations and Reporting Points, effective September 15, 2007, listed Class A, B, C, D and E airspace areas; air traffic service routes; and reporting points. Due to the length of these descriptions, the FAA requested approval from the Office of the Federal Register to incorporate the material by reference in the Federal Aviation Regulations section 71.1. During the incorporation by reference period, from September 15, 2007 through September 15, 2008, the FAA processed all proposed changes of the airspace listings in FAA Order 7400.9R in full text as proposed rule documents in the Federal Register. Likewise, all amendments of these listings were published in full text as final rules in the Federal Register. This rule reflects the continued incorporation of 7400.9R, pending a revised edition of the Order. The Director of the Federal Register has extended the IBR approval of FAA Order 7400.9R in section 71.1, as of September 16, 2008 until October 31, 2008. This rule also explains the procedures the FAA will use to amend the airspace designations incorporated by reference in part 71. Sections 71.5, 71.15, 71.31, 71.33, 71.41, 71.51, 71.61, 71.71, and 71.901 are amended to reflect the incorporation by reference of FAA Order 7400.9R.

The Rule

This action amends Title 14 Code of Federal Regulations (14 CFR) part 71 to reflect the approval by the Director of the Federal Register of the incorporation by reference of FAA Order 7400.9R, effective September 16, 2008. This rule reflects the continued incorporation of 7400.9R, pending a revised edition of the Order. During the incorporation by reference, the FAA will continue to process all proposed changes of the airspace listings in the Order. Likewise, all amendments of these listings will be published in full text as final rules in the Federal Register. The FAA will periodically integrate all final rule amendments into a revised edition of the Order, and submit the revised edition to the Director of the Federal Register for approval for incorporation by reference in section 71.1.

The FAA has determined that this action: (1) Is not a “significant regulatory action” under Executive Order 12866; (2) is not a “significant rule” under DOT Regulatory Policies and Procedures (44 FR 11034; February 26, 1979); and (3) does not warrant preparation of a regulatory evaluation, as the anticipated impact is so minimal. This action neither places any new restrictions or requirements on the public, nor changes the dimensions or operation requirements of the airspace listings incorporated by reference in part 71. Consequently, notice and public procedure under 5 U.S.C. 553(b) are unnecessary. Because this action will continue to update the changes to the airspace designations, which are depicted on aeronautical charts, and to avoid any unnecessary pilot confusion, I find that good cause exists, under 5 U.S.C. 553(d), for making this amendment effective in less than 30 days.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

2. Section 71.1 is added to read as follows:

§ 71.1 Applicability.

A listing for Class A, B, C, D, and E airspace areas; air traffic service routes; and reporting points can be found in FAA Order 7400.9R, Airspace Designations and Reporting Points. This incorporation by reference was approved by the Director of the Federal Register in accordance with 5 U.S.C. 552(a) and 1 CFR part 51. The approval to incorporate by reference FAA Order 7400.9R is effective September 16, 2008 until October 31, 2008. During the incorporation by reference, proposed changes to the listings of Class A, B, C, D, and E airspace areas; air traffic service routes; and reporting points will be published in full text as proposed rule documents in the Federal Register. Amendments to the listings of Class A, B, C, D, and E airspace areas; air traffic service routes; and reporting points will be published in full text as final rules in the Federal Register. Periodically, the final rule amendments will be integrated into a revised edition of the Order and submitted to the Director of the Federal Register for approval for incorporation by reference in this section. Copies of FAA Order 7400.9R may be obtained from Airspace and Rules Group, Federal Aviation Administration, 800 Independence Avenue, SW., Washington, DC 20591, (202) 267-8783. An electronic version of the Order is available on the FAA Web site at http://www.faa.gov/airports_airtraffic/air_traffic/publications/. Copies of FAA Order 7400.9R may be inspected in Docket No. 29334 on the Federal Register Web site at http://www.regulations.gov.

3. Section 71.5 is revised to read as follows:

§ 71.5 Reporting points.

The reporting points listed in subpart H of FAA Order 7400.9R (incorporated by reference, see § 71.1) consist of geographic locations at which the position of an aircraft must be reported in accordance with part 91 of this chapter.

4. Section 71.15 is revised to read as follows:

§ 71.15 Designation of jet routes and VOR Federal airways.

Unless otherwise specified, the place names appearing in the descriptions of airspace areas designated as jet routes in subpart A of FAA Order 7400.9R, and as VOR Federal airways in subpart E of FAA Order 7400.9R, are the names of VOR or VORTAC navigation aids. FAA Order 7400.9R is incorporated by reference in § 71.1.

5. Section 71.31 is revised to read as follows:

§ 71.31 Class A airspace.

The airspace descriptions contained in § 71.33 and the routes contained in subpart A of FAA Order 7400.9R (incorporated by reference, see § 71.1) are designated as Class A airspace within which all pilots and aircraft are subject to the rating requirements, operating rules, and equipment requirements of part 91 of this chapter.

6. In § 71.33 revise paragraph (c) to read as follows:

§ 71.33 Class A airspace areas.

* * * * *

(c) The airspace areas listed as offshore airspace areas in subpart A of FAA Order 7400.9R (incorporated by reference, see § 71.1) that are designated in international airspace within areas of domestic radio navigational signal or ATC radar coverage, and within which domestic ATC procedures are applied.

7. Section 71.41 is revised to read as follows:

§ 71.41 Class B airspace.

The Class B airspace areas listed in subpart B of FAA Order 7400.9R (incorporated by reference, see § 71.1) consist of specified airspace within which all aircraft operators are subject to the minimum pilot qualification requirements, operating rules, and aircraft equipment requirements of part 91 of this chapter. Each Class B airspace area designated for an airport in subpart B of FAA Order 7400.9R (incorporated by reference, see § 71.1) contains at least one primary airport around which the airspace is designated.

8. Section 71.51 is revised to read as follows:

§ 71.51 Class C airspace.

The Class C airspace areas listed in subpart C of FAA Order 7400.9R (incorporated by reference, see § 71.1) consist of specified airspace within which all aircraft operators are subject to operating rules and equipment requirements specified in part 91 of this chapter. Each Class C airspace area designated for an airport in subpart C of FAA Order 7400.9R (incorporated by reference, see § 71.1) contains at least one primary airport around which the airspace is designated.

9. Section 71.61 is revised to read as follows:

§ 71.61 Class D airspace.

The Class D airspace areas listed in subpart D of FAA Order 7400.9R (incorporated by reference, see § 71.1) consist of specified airspace within which all aircraft operators are subject to operating rules and equipment requirements specified in part 91 of this chapter. Each Class D airspace area designated for an airport in subpart D of FAA Order 7400.9R (incorporated by reference, see § 71.1) contains at least one primary airport around which the airspace is designated.

10. Section 71.71 is revised to read as follows:

§ 71.71 Class E airspace.

Class E Airspace consists of:

(a) The airspace of the United States, including that airspace overlying the waters within 12 nautical miles of the coast of the 48 contiguous states and Alaska, extending upward from 14,500 feet MSL up to, but not including 18,000 feet MSL, and the airspace above FL600, excluding—

(1) The Alaska peninsula west of longitude 160°00′00″ W.; and

(2) The airspace below 1,500 feet above the surface of the earth.

(b) The airspace areas designated for an airport in subpart E of FAA Order 7400.9R (incorporated by reference, see § 71.1) within which all aircraft operators are subject to the operating rules specified in part 91 of this chapter.

(c) The airspace areas listed as domestic airspace areas in subpart E of FAA Order 7400.9R (incorporated by reference, see § 71.1) which extend upward from 700 feet or more above the surface of the earth when designated in conjunction with an airport for which an approved instrument approach procedure has been prescribed, or from 1,200 feet or more above the surface of the earth for the purpose of transitioning to or from the terminal or en route environment. When such areas are designated in conjunction with airways or routes, the extent of such designation has the lateral extent identical to that of a Federal airway and extends upward from 1,200 feet or higher. Unless otherwise specified, the airspace areas in the paragraph extend upward from 1,200 feet or higher above the surface to, but not including, 14,500 feet MSL.

(d) The Federal airways described in subpart E of FAA Order 7400.9R (incorporated by reference, see § 71.1).

(e) The airspace areas listed as en route domestic airspace areas in subpart E of FAA Order 7400.9R (incorporated by reference, see § 71.1). Unless otherwise specified, each airspace area has a lateral extent identical to that of a Federal airway and extends upward from 1,200 feet above the surface of the earth to the overlying or adjacent controlled airspace.

(f) The airspace areas listed as offshore airspace areas in subpart E of FAA Order 7400.9R (incorporated by reference, see § 71.1) that are designated in international airspace within areas of domestic radio navigational signal or ATC radar coverage, and within which domestic ATC procedures are applied. Unless otherwise specified, each airspace area extends upward from a specified altitude up to, but not including, 18,000 feet MSL.

11. Section 71.901 is revised to read as follows:

§ 71.901 Applicability.

Unless otherwise designated:

(a) Each reporting point listed in subpart H of FAA Order 7400.9R (incorporated by reference, see § 71.1) applies to all directions of flight. In any case where a geographic location is designated as a reporting point for less than all airways passing through that point, or for a particular direction of flight along an airway only, it is so indicated by including the airways or direction of flight in the designation of geographical location.

(b) Place names appearing in the reporting point descriptions indicate VOR or VORTAC facilities identified by those names.

Issued in Washington, DC, on September 16, 2008.
Barry C. Davis,
Acting Director, Systems Operations, Airspace, and AIM.

[FR Doc. E8-21986 Filed 9-16-08; 4:40 pm]

BILLING CODE 4910-13-P